DEPARTMENT OF COMMERCE

National Oceanic and Atmospheric Administration

[I.D. 031705A]

Endangered and Threatened Species; Take of Anadromous Fish

AGENCY: National Marine Fisheries Service (NMFS), National Oceanic and Atmospheric Administration (NOAA), Commerce.

ACTION: Permit modifications and request for new research permits.

SUMMARY: Notice is hereby given that NMFS has received three scientific research permit applications and two modification requests relating to Pacific salmon. The proposed research is intended to increase knowledge of species listed under the Endangered Species Act (ESA) and to help guide management and conservation efforts.

DATES: Comments or requests for a public hearing on the application must be received at the appropriate address or fax number (see ADDRESSES) no later than 5 p.m. Pacific daylight-saving time on April 22, 2005.

ADDRESSES: Written comments on the application should be sent to Protected Resources Division, NMFS, F/NWO3, 1201 NE Lloyd Blvd., Suite 1100, Portland, OR 97232-2737. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available at http://www.nwr.noaa.gov.

SUPPLEMENTARY INFORMATION:

Species Covered in This Notice

The following listed species and evolutionarily significant units (ESUs) are covered in this notice:

Chinook salmon (Oncorhynchus tshawytscha): endangered naturally-produced and artificially propagated upper Columbia River (UCR); threatened naturally-produced and artificially propagated Snake River (SR) spring/summer (spr/sum); threatened SR fall; threatened lower Columbia River (LCR); threatened upper Willamette River (UWR); threatened naturally-produced and artificially propagated Puget Sound (PS).

Chum salmon (O. keta): threatened Columbia River (CR).

Steelhead (O. mykiss): threatened SR; threatened middle Columbia River (MCR); endangered UCR; threatened LCR; threatened UWR.

Coho salmon (O. kisutch): proposed threatened Oregon Coast (OC); proposed threatened LCR.

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NMFS.

Applications Received

Permit 1410 - Modification 2

The Northwest Fisheries Science Center (NWFSC) is asking to modify its 5-year permit to expand on a study in the Columbia River plume and surrounding ocean environment. The NWFSC is requesting to increase its annual take of adult and juvenile LCR chinook salmon, SR fall chinook salmon, SR spring/summer chinook salmon, UCR chinook salmon, UWR chinook salmon, CR chum salmon, SR steelhead, and OC coho salmon. OC coho salmon are currently proposed as a threatened species. The research is designed to investigate the distribution, abundance, condition, and health of juvenile salmonids in relation to oceanographic conditions. The purpose of the study is to help researchers and managers better understand the factors controlling estuarine and marine survival. The study will provide information to help forecast survival potential as a function of plume and ocean conditions. Further, the study will be coordinated with a predation study which is a component of the plume study but was covered under a different authorization in previous years.

The NWFSC is requesting authorization to capture (using surface trawling), handle, and release adult and juvenile fish and to intentionally kill some juveniles for endocrine assessment, stock identification, pathogen prevalence and intensity, otolith and stomach content analysis, and histopathological attributes. The NWFSC does not intend to kill any adult fish being captured but some may die as an unintentional result of the research activities.

Permit 1479 - Modification 1

The U.S. Geological Survey (USGS) is asking to modify its 5-year permit to expand on a study in the Wind River, Washington. The USGS is asking to increase its annual take of LCR chinook salmon and add takes of CR chum salmon and LCR coho salmon. LCR coho salmon are currently proposed as a threatened species. The research is designed to investigate the efficacy of nutrient enhancement in increasing juvenile fish growth and condition and thereby determine how effectively it can be used to restore juvenile salmonid production in nutrient-deficient watersheds. The research will help state, tribal, and Federal managers in their efforts to restore lower Columbia River salmon and steelhead populations and their habitats.

The USGS proposes to capture (using backpack electrofishers), handle, tag with passive integrated transponders or visual implants, and release listed salmonids. The USGS does not intend to capture adult fish but some may be in the area being fished and will be avoided as much as possible. While most of the fish would be unharmed, some juveniles may unintentionally be killed during the course of the research.

Permit 1523

The National Council of Air and Stream Improvements (NCASI) is requesting a 5-year permit to conduct research in the McKenzie and Willamette rivers in Oregon. The NCASI is asking to take juvenile UWR chinook salmon and steelhead while studying water quality and biological conditions in rivers receiving paper- and pulp mill discharges. The research will provide information on existing conditions in the watersheds and on changes in those conditions over time, and ultimately on the aquatic communities' responses to environmental stressors.

The information will be used in a larger effort to monitor watershed health, water quality, and salmon recovery in the Upper Willamette watershed.

The NCASI proposes to capture (using boat electrofishers), handle, and release listed salmonids. The NCASI does not intend to capture adult fish but some may be in the area being fished and will be avoided as much as possible. While most of the fish would be unharmed, some juveniles may unintentionally be killed during the course of the research.

Permit 1524

The NWFSC is requesting a 5-year research permit for intentional mortality and unintentional mortality of juvenile Puget Sound chinook salmon. The research would consist of two studies. Study 1 would take place in the Skagit River estuary, Washington, and Study 2 would take place in Puget Sound, Washington. The purpose of study 1 is to examine density dependence and survival during estuarine residence in juvenile chinook salmon. The purpose of Study 2 is to examine nearshore habitat use, movements, and survival of juvenile chinook and coho salmon in Puget Sound. The goal of this research is to understand changes in population characteristics (primarily abundance, productivity, and life history diversity) of wild chinook salmon in response to projects designed to reconnect and restore estuarine habitat. These studies are among the top priorities of the NMFS' Salmon Research Plan, including the need to estimate and evaluate estuarine and marine survival at several spatial scales.

In Study 1, fish would be captured at several sites in the Skagit River tidal delta by beach seining. Naturally produced juvenile chinook salmon would be marked and placed in enclosures for a period of 2 weeks. A small number of the fish may die as an unintended result of the capture, handle, and mark procedure. The NWFSC would also kill a portion of the fish for diet and otolith analysis. In Study 2, fish would be captured at several sites in the Skagit Bay by beach seining. Naturally-produced juvenile chinook salmon would be marked with a combination of an external tag and an internal acoustic tag. The NWFSC does not intend to kill any of the fish being captured in study 2, but a small number may die as an unintended result of the activities.

Permit 1525

The Northwest Fisheries Science Center (NWFSC) is requesting a 5-year research permit to study salmonids in the Lower Willamette River, Oregon, and in the Columbia River from Bonneville Dam to the mouth. The NWFSC is requesting to take juvenile SR spring/summer chinook salmon, SR fall chinook salmon, SR steelhead, UCR chinook salmon, UCR steelhead, MCR steelhead, LCR chinook salmon, LCR steelhead, UWR chinook salmon, UWR steelhead, and CR chum salmon.

The research is currently authorized under Permit 1140, Study 3. If authorized, the research will be authorized by this new permit and removed from Permit 1140. The purposes of the study are to (1) determine contaminant concentrations in fish, (2) understand bioaccumulation in juvenile salmon and determine site-specific factors, (3) analyze for the presence of physiological biomarkers, and (4) investigate the presence of indicators of exposure to environmental estrogens. The NWFSC would collect samples with seines or high speed rope trawls and is asking for authorization to handle juvenile fish and to intentionally kill some of them for pathogen prevalence and intensity, biochemical composition, histopathological attributes, and stomach content analyses.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: March 17, 2005.
Marta Nammack,
Acting Chief, Endangered Species Division, Office of Protected Resources, National Marine Fisheries Service.

[FR Doc. 05-5752 Filed 3-22-05; 8:45 am]

BILLING CODE 3510-22-S